DEPARTMENT OF STATE

[Public Notice: 9774]

U.S. Department of State Advisory Committee on Private International Law (ACPIL): Public Meeting on Insolvency-Related Judgments and Enterprise Group Insolvency Issues

The Office of the Assistant Legal Adviser for Private International Law, Department of State, gives notice of a public meeting to discuss ongoing work in the United Nations Commission on International Trade Law (UNCITRAL) related to the recognition and enforcement of insolvency-derived judgments and the insolvency of cross-border enterprise groups. The public meeting will take place on Tuesday, November 22, 2016 from 9:30 a.m. until 12:00 p.m. EST. This is not a meeting of the full Advisory Committee.

For its last several sessions, UNCITRAL's Working Group V has been focused on two projects: A model law on the recognition and enforcement of insolvency-related judgments, and model legislative provisions that would assist courts in addressing the cross-border insolvency of enterprise groups. In December 2016, Working Group V will continue to discuss the draft texts for both projects. Along with documents from past sessions, the Secretariat papers for the December session will be made available at http://www.uncitral.org/uncitral/en/commission/working_groups/5Insolvency.html.

The purpose of the public meeting is to obtain the views of concerned stakeholders on updated drafts prepared by the UNCITRAL Secretariat on both topics: The recognition and enforcement of insolvency-related judgments and the insolvency of cross-border enterprise groups.

Time and Place: The meeting will take place on November 22, 2016, from 9:30 a.m. until 12:00 p.m. via a teleconference. Those who cannot participate but wish to comment are welcome to do so by email to Tim Schnabel at SchnabelTR@state.gov.

Public Participation: This meeting is open to the public. If you would like to participate by telephone, please email pil@state.gov to obtain the call-in number and other information.

Dated: October 17, 2016.
Timothy R. Schnabel,
Attorney-Adviser, Office of Private International Law, Office of Legal Adviser, Department of State.

[FR Doc. 2016-25890 Filed 10-25-16; 8:45 am]

BILLING CODE 7410-08-P